DEPARTMENT OF ENERGY

Federal Energy Regulatory Commission

[Docket No. ER01-414-000]

Southern California Edison Company; Notice of Filing

November 22, 2000.

Take notice that on November 13, 2000, Southern California Edison Company (SCE) tendered for filing the Agreement For Interconnection Service (Agreement), between SCE and Harbor Cogeneration Company (Harbor).

The Agreement specifies the terms and conditions under which SCE will interconnect Harbor's 80,000 kW generating facility with SCE's Harborgen Substation pursuant to SCE's Transmission Owner Tariff.

Copies of this filing were served upon the Public Utilities Commission of the State of California and all interested parties.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or December 4, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-30358 Filed 11-28-00; 8:45 am]

BILLING CODE 6717-01-M